EXPORT-IMPORT BANK

Intent To Conduct a Detailed Economic Impact Analysis

AGENCY: Export-Import Bank.

ACTION: Notice.

SUMMARY: This notice is to inform the public that the Export-Import Bank of the United States has received an application for a $5 billion direct loan to support the export of approximately $4.348 billion in U.S. equipment and services to establish an integrated liquefied natural gas, or LNG, project in Mozambique. The U.S. exports will enable the facility to produce approximately 12.8 million tons per year of liquefied natural gas.

Available information indicates the Mozambique gas producer plans to sell the liquefied natural gas in the Asia-Pacific market (including India, China, Japan, Indonesia, Taiwan, and Thailand), as well as smaller quantities to markets in Europe.

DATES: Comments are due December 13, 2018.

ADDRESSES: Interested parties may submit comments on this transaction by email to economic.impact@exim.gov or by mail to Scott Condren, Export-Import Bank of the United States, 811 Vermont Avenue NW, Room 1261, Washington, DC 20571.

Scott Condren,
Policy Analysis.

[FR Doc. 2018-25535 Filed 11-28-18; 8:45 am]

BILLING CODE 6690-01-P